Title 3—

The President

Proclamation 9652 of October 5, 2017

German-American Day, 2017

By the President of the United States of America

A Proclamation

On October 6, 1683, 13 families landed in Philadelphia, having set sail earlier that year from the German city of Krefeld. These pioneers founded the first German settlement in America: Germantown, Pennsylvania, the first American community to formally protest the evils of slavery. Since this auspicious beginning, millions of German immigrants have come to our Nation in pursuit of personal and religious freedoms and economic opportunity. These immigrants and their descendants have changed the trajectory of the United States, and on German-American Day, we celebrate their role in helping our country thrive.

The more than 44 million Americans who claim German heritage join previous generations in making important contributions to every facet of American life. As the proud grandson of German grandparents, I am keenly aware of how German Americans have helped drive our economy, enrich our culture, and protect and defend the land they embrace as their own. Notable German-American leaders in business and finance include William Boeing, John D. Rockefeller, Henry Heinz, and Milton S. Hershey. Many others, such as Neil Armstrong, George Herman “Babe” Ruth Jr., Walt Disney, Amelia Earhart, and the inimitable “Dr. Seuss” (Theodor Seuss Geisel) have become beloved figures. German Americans Chester Nimitz, John Pershing, and Norman Schwarzkopf, Jr. are among the most decorated military officers in American history. American painters of German descent include Emanuel Leutze, best known for his classic work Washington Crossing the Delaware, and Albert Bierstadt, whose canvas captured the majestic beauty of the American West. German Americans have also designed some of the most iconic landmarks in the United States, including Johann August Roebling's Brooklyn Bridge. Even the quintessential American hot dog owes a debt to German immigrant Charles Feltman, who debuted the savory treat when he opened the first hot dog stand at Coney Island.

Today, the United States and Germany enjoy a close relationship through our shared history and common interests. As our Nation's largest ancestry group, German Americans are rightfully proud of how their deep cultural, historical, and familial ties have helped strengthen this robust transatlantic relationship. A strong partnership between the United States and Germany is vital to ensuring that we live in a peaceful world filled with vibrant economic opportunities for all.

NOW, THEREFORE, I, DONALD J. TRUMP, President of the United States of America, by virtue of the authority vested in me by the Constitution and the laws of the United States, do hereby proclaim October 6, 2017, as German-American Day. I call upon all Americans to celebrate the achievements and contributions of German Americans to our Nation with appropriate ceremonies, activities, and programs.

IN WITNESS WHEREOF, I have hereunto set my hand this fifth day of October, in the year of our Lord two thousand seventeen, and of the Independence of the United States of America the two hundred and forty-second.

[FR Doc. 2017-22173

Filed 10-10-17; 11:15 am]

Billing code 3295-F8-P